ENVIRONMENTAL PROTECTION AGENCY

[EPA-HQ-OW-2008-0692; FRL-8740-1]

RIN 2040-ZA02

Drinking Water: Preliminary Regulatory Determination on Perchlorate

AGENCY: Environmental Protection Agency (EPA).

ACTION: Reopening of public comment period.

SUMMARY: EPA announced on October 10, 2008, its preliminary regulatory determination that a national primary drinking water regulation for perchlorate would not present “a meaningful opportunity for health risk reduction for persons served by public water systems.” In response to requests from several stakeholders, this action reopens the public comment period for an additional 15 days.

DATES: EPA must receive your comments on or before November 28, 2008.

ADDRESSES: Submit your comments, identified by Docket ID No. EPA-HQ-OW-2008-0692, by one of the following methods:

• www.regulations.gov: Follow the on-line instructions for submitting comments.

• Mail: Water Docket, Environmental Protection Agency, Mailcode: 2822T, 1200 Pennsylvania Ave., NW., Washington, DC 20460.

• Hand Delivery: Water Docket, EPA Docket Center (EPA/DC) EPA West, Room 3334, 1301 Constitution Ave., NW., Washington, DC. Such deliveries are only accepted during the Docket's normal hours of operation, and special arrangements should be made for deliveries of boxed information.

Instructions: Direct your comments to Docket ID No. EPA-HQ-OW-2008-0692. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Eric Burneson, Office of Ground Water and Drinking Water, Standards and Risk Management Division, at (202) 564-5250 or e-mail burneson.eric@epa.gov. For general information contact the EPA Safe Drinking Water Hotline at (800) 426-4791 or e-mail: hotline-sdwa@epa.gov.

SUPPLEMENTARY INFORMATION: The Safe Drinking Water Act requires EPA to make determinations every five years of whether to regulate at least five contaminants on the Contaminant Candidate List (CCL). EPA included perchlorate on the first and second CCLs that were published in the Federal Register on March 2, 1998 (63 FR 10273) and February 24, 2005 (70 FR 9071). Most recently, EPA presented final regulatory determinations regarding 11 contaminants on the second CCL in a notice published in the Federal Register on July 30, 2008. On October 10, 2008 (73 FR 60262), EPA presented supporting rationale and requested public comment on its preliminary determination not to regulate perchlorate (please note that EPA has issued a new RIN number for this action which is 2040-AF02). EPA will make a final regulatory determination for perchlorate after considering comments and information provided in the comment period following this notice. The original comment deadline was November 10, 2008. Several stakeholders have requested a reopening to the comment period in order to evaluate EPA's findings, review the scientific literature and prepare comments. This action reopens the comment period for 15 days.

Dated: November 6, 2008.
Benjamin H. Grumbles,
Assistant Administrator, Office of Water.

[FR Doc. E8-26945 Filed 11-10-08; 8:45 am]

BILLING CODE 6560-50-P